DEPARTMENT OF TRANSPORTATION

Federal Aviation Administration

14 CFR Part 39

[Docket No. FAA-2014-0751; Directorate Identifier 2013-NM-188-AD; Amendment 39-18229; AD 2015-16-04]

RIN 2120-AA64

Airworthiness Directives; Kidde Graviner

AGENCY: Federal Aviation Administration (FAA), Department of Transportation (DOT).

ACTION: Final rule.

SUMMARY: We are adopting a new airworthiness directive (AD) for certain Kidde Graviner hand-operated fire extinguishers. This AD was prompted by a report that a fire extinguisher failed to operate when the activation lever was pressed. This AD requires modifying the affected fire extinguishers. We are issuing this AD to prevent fire extinguishers from failing to operate in the event of a fire, which could jeopardize occupants' safety and continuation of safe flight and landing.

DATES: This AD becomes effective September 15, 2015.

The Director of the Federal Register approved the incorporation by reference of a certain publication listed in this AD as of September 15, 2015.

ADDRESSES: You may examine the AD docket on the Internet at http://www.regulations.gov/#!docketDetail;D=FAA-2014-0751 or in person at the Docket Management Facility, U.S. Department of Transportation, Docket Operations, M-30, West Building Ground Floor, Room W12-140, 1200 New Jersey Avenue SE., Washington, DC.

For service information identified in this AD, contact Kidde Graviner Limited, Mathisen Way, Colnbrook, Slough, Berkshire, SL3 0HB, United Kingdom; telephone +44 (0) 1753 583245; fax +44 (0) 1753 685040. You may view this referenced service information at the FAA, Transport Airplane Directorate, 1601 Lind Avenue SW., Renton, WA. For information on the availability of this material at the FAA, call 425-227-1221. It is also available on the Internet at http://www.regulations.gov by searching for and locating Docket No. FAA-2014-0751.

FOR FURTHER INFORMATION CONTACT: Ian Lucas, Aerospace Engineer, Boston Aircraft Certification Office (ACO), ANE-150, FAA, Engine and Propeller Directorate, 12 New England Executive Park, Burlington, MA 01803; phone: 781-238-7757; fax: 781-238-7170; email: ian.lucas@faa.gov.

SUPPLEMENTARY INFORMATION:

Discussion

We issued a notice of proposed rulemaking (NPRM) to amend 14 CFR part 39 by adding an AD that would apply to certain Kidde Graviner hand-operated fire extinguishers. The NPRM published in the Federal Register on October 16, 2014 (79 FR 62070).

The European Aviation Safety Agency (EASA), which is the Technical Agent for the Member States of the European Union, has issued EASA Airworthiness Directive 2012-0037, dated March 9, 2012 (referred to after this as the Mandatory Continuing Airworthiness Information, or “the MCAI”), to correct an unsafe condition for certain Kidde Graviner hand-operated fire extinguishers. The MCAI states:

An instance occurred where an operator tried to use the fire extinguisher, but the extinguisher failed to operate when the activation lever was pressed.

This condition, if not detected and corrected, could lead, in case of need to use the device to extinguish a fire on an aircraft, to jeopardize the occupants' safety as well as the flight continuation and safe landing.

The part manufacturer Kidde Graviner has introduced a design change to remove the root cause of the possible failure.

This [EASA] AD requires to modify all potentially defective fire extinguishers [including applying adhesive to the gland nut].

You may examine the MCAI in the AD docket on the Internet at http://www.regulations.gov/#!documentDetail;D=FAA-2014-0751-0004.

Comments

We gave the public the opportunity to participate in developing this AD. The following presents the comments received on the NPRM (79 FR 62070, October 16, 2014) and the FAA's response to each comment. One anonymous commenter supported the NPRM.

Request To Refer to “Aircraft” Instead of “Various Transport and Small Airplanes”

One anonymous commenter requested that we revise paragraph (c) of the proposed AD (79 FR 62070, October 16, 2014) to refer to “aircraft” instead of “various transport and small airplanes.” The commenter stated that the change is in the interest of improving accuracy and for clarification. The commenter added the request is based on the fact that the key to addressing the unsafe condition is finding suspected products, defined by the manufacturer's part numbers, and the category under which the aircraft operates is not material.

We agree with the request to refer to “aircraft” instead of “various transport and small airplanes” for the reasons stated by the commenter. We have replaced the text “various transport and small airplanes” with the word “aircraft” in paragraph (c) of this AD.

Change to Manufacturer's Name

We have revised paragraph (c)(3) of this AD to identify the manufacturer name for the Model C-212-CB, C-212-CC, C-212-CD, C-212-CE, C-212-CF, C-212-DE, and C-212-DF airplanes as Airbus Defense and Space S.A. (Type Certificate previously held by EADS CASA; Construcciones Aeronauticas, S.A.). Airbus Defense and Space S.A. (Type Certificate previously held by EADS CASA; Construcciones Aeronauticas, S.A.) is the manufacturer name published in the most recent type certificate data sheet for those models.

Clarification of Parts Installation Prohibition

We have added a reference to “paragraph (h) of this AD” within paragraph (i) of this AD to clarify which modified parts may be installed.

Conclusion

We reviewed the relevant data, considered the comments received, and determined that air safety and the public interest require adopting this AD with the changes described previously and minor editorial changes. We have determined that these minor changes:

• Are consistent with the intent that was proposed in the NPRM (79 FR 62070, October 16, 2014) for correcting the unsafe condition; and

• Do not add any additional burden upon the public than was already proposed in the NPRM (79 FR 62070, October 16, 2014).

We also determined that these changes will not increase the economic burden on any operator or increase the scope of this AD.

Related Service Information Under 1 CFR Part 51

Kidde Graviner has issued Alert Service Bulletin A26-081, Revision 1, dated January 31, 2012. The service information describes procedures for modifying fire extinguishers. This service information is reasonably available because the interested parties have access to it through their normal course of business or by the means identified in the ADDRESSES section of this AD.

Costs of Compliance

We estimate that this AD affects 400 appliances installed on, but not limited to, various aircraft of U.S. registry.

We also estimate that it will take about 25 work-hours per product to comply with the basic requirements of this AD. The average labor rate is $85 per work-hour. Based on these figures, we estimate the cost of this AD on U.S. operators to be $850,000, or $2,125 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0751; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-16-04 Kidde Graviner: Amendment 39-18229. Docket No. FAA-2014-0751; Directorate Identifier 2013-NM-188-AD.

(a) Effective Date

This AD becomes effective September 15, 2015.

(b) Affected ADs

None.

(c) Applicability

This AD applies to Kidde Graviner hand-operated fire extinguishers having part numbers 56412-001 (34H), 56411-001 (35H), and 56412-002 (38H). These fire extinguishers may be installed on, but not limited to, aircraft, certificated in any category, specified in paragraphs (c)(1), (c)(2), (c)(3), (c)(4), (c)(5), and (c)(6) of this AD.

(1) BAE Systems (Operations) Limited Model ATP airplanes.

(2) BAE Systems (Operations) Limited Model 4101 airplanes.

(3) Airbus Defense and Space S.A. (Type Certificate previously held by EADS CASA; Construcciones Aeronauticas, S.A.) Model C-212-CB, C-212-CC, C-212-CD, C-212-CE, C-212-CF, C-212-DE, and C-212-DF airplanes.

(4) Fokker Services B.V. Model F.27 Mark 050, 100, 200, 300, 400, 500, 600, and 700 airplanes.

(5) Short Brothers PLC Model SD3-60 SHERPA, SD3-SHERPA, SD3-30, and SD3-60 airplanes.

(6) SHORT BROTHERS & HARLAND LTD SC-7 Series 2 and SC-7 Series 3 airplanes.

(d) Subject

Air Transport Association (ATA) of America Code 26, Fire Protection.

(e) Reason

This AD was prompted by a report that a fire extinguisher failed to operate when the activation lever was pressed. We are issuing this AD to prevent fire extinguishers from failing to operate in the event of a fire, which could jeopardize occupants' safety and continuation of safe flight and landing.

(f) Compliance

Comply with this AD within the compliance times specified, unless already done.

(g) Modification

Within 6 months after the effective date of this AD, modify all Kidde Graviner hand-operated fire extinguishers having part numbers 56412-001 (34H), 56411-001 (35H), and 56412-002 (38H), in accordance with the Accomplishment Instructions of Kidde Graviner Alert Service Bulletin A26-081, Revision 1, dated January 31, 2012.

(h) Credit for Previous Actions

This paragraph provides credit for actions required by paragraph (g) of this AD, if those actions were performed before the effective date of this AD using Kidde Graviner Alert Service Bulletin A26-081, dated August 23, 2011, which is not incorporated by reference in this AD.

(i) Parts Installation Prohibition

As of the effective date of this AD, no person may install any Kidde Graviner hand-operated fire extinguisher having part number 56412-001 (34H), 56411-001 (35H), or 56412-002 (38H) on any airplane unless the fire extinguisher has been modified as specified in paragraph (g) or (h) of this AD.

(j) Other FAA AD Provision

The following provision for Alternative Methods of Compliances (AMOCs) also applies to this AD: The manager of the office having certificate responsibility for the affected product has the authority to approve AMOCs for this AD, if requested using the procedures found in 14 CFR 39.19. In accordance with 14 CFR 39.19, send your request to your principal inspector or local Flight Standards District Office, as appropriate. The Manager, Boston Aircraft Certification Office (ACO), FAA, will coordinate requests for approval of AMOCs with the manager of the appropriate office for the affected product. Send information to ATTN: Ian Lucas, Aerospace Engineer, Boston ACO, ANE-150, FAA, Engine and Propeller Directorate, 12 New England Executive Park, Burlington, MA 01803; phone: 781-238-7757; fax: 781-238-7170; email: ian.lucas@faa.gov. Before using any approved AMOC, notify your appropriate principal inspector, or lacking a principal inspector, the manager of the local flight standards district office/certificate holding district office. The AMOC approval letter must specifically reference this AD.

(k) Related Information

(1) Refer to Mandatory Continuing Airworthiness Information (MCAI) European Aviation Safety Agency (EASA) Airworthiness Directive 2012-0037, dated March 9, 2012, for related information. This MCAI may be found in the AD docket on the Internet at http://www.regulations.gov/#!documentDetail;D=FAA-2014-0751-0004.

(2) Service information identified in this AD that is not incorporated by reference is available at the addresses specified in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Kidde Graviner Alert Service Bulletin A26-081, Revision 1, dated January 31, 2012. Page 2 of this document is dated August 23, 2011.

(ii) Reserved.

(3) For service information identified in this AD, contact Kidde Graviner Limited, Mathisen Way, Colnbrook, Slough, Berkshire, SL3 0HB, United Kingdom; telephone +44 (0) 1753 583245; fax +44 (0) 1753 685040.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on July 29, 2015.
Michael Kaszycki,
Acting Manager, Transport Airplane Directorate, Aircraft Certification Service.

[FR Doc. 2015-19474 Filed 8-10-15; 8:45 am]

BILLING CODE 4910-13-P